DEPARTMENT OF DEFENSE

GENERAL SERVICES ADMINISTRATION

NATIONAL AERONAUTICS AND SPACE ADMINISTRATION

[Docket 2015-0055; Sequence 51]

Submission for OMB Review; High Global Warming Potential Hydrofluorocarbons

AGENCY: Department of Defense (DoD), General Services Administration (GSA), and National Aeronautics and Space Administration (NASA).

ACTION: Notice of request for public comments regarding a new OMB clearance.

SUMMARY: Under the provisions of the Paperwork Reduction Act, the Regulatory Secretariat Division will be submitting to the Office of Management and Budget (OMB) a request to review and approve a new information collection requirement concerning High Global Warming Potential Hydrofluorocarbons. A notice was published in the Federal Register at 80 FR 26883, on May 11, 2015. Sixteen comments were received.

DATES: Submit comments on or before January 28, 2016.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching for OMB control number “9000-0191; High Global Warming Potential Hydrofluorocarbons.” Select the link “Submit a Comment” that corresponds with “9000-0191; High Global Warming Potential Hydrofluorocarbons.” Follow the instructions provided at the “Submit a Comment” screen. Please include your name, company name (if any), and “9000-0191; High Global Warming Potential Hydrofluorocarbons” on your attached document.

• Mail: General Services Administration, Regulatory Secretariat Division (MVCB), ATTN: Ms. Flowers, 1800 F Street NW., Washington, DC 20405.

Instructions: Please submit comments only and cite Information Collection “9000-0191; High Global Warming Potential Hydrofluorocarbons,” in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Charles Gray, Procurement Analyst, Federal Acquisition Policy Division, at 703-795-6328 or email charles.gray@gsa.gov.

SUPPLEMENTARY INFORMATION:

A. Purpose

DoD, GSA, and NASA published a proposed rule at 80 FR 26883 on May 11, 2015, to implement Executive branch policy in the President's Climate Action Plan to procure, when feasible, alternatives to high GWP HFCs. FAR Case 2014-026, High Global Warming Potential Hydrofluorocarbons, proposed to modify FAR provision 52.223-11, Ozone-Depleting Substances, and 52.223-12, Refrigeration Equipment and Air Conditioners, to address high global warming potential (GWP) hydrofluorocarbons (HFCs).

For equipment and appliances that normally contain 50 or more pounds of HFCs or HFC blends, the clauses will now include requirements to track by type, equipment/application, contract, agency, and location, the amount in pounds of HFCs or HFC blends contained in such equipment and appliances delivered to the Government; or added or taken out of such equipment and appliances that will be maintained, repaired, or disposed under the contract. The contractor is required to report the information annually to a centralized Government Web site.

B. Annual Reporting Burden

To estimate the number of respondents affected by the reporting requirement in FAR 52.223-11 and 52.223-12, the Government reviewed the number of contracts awarded or orders issued for the Federal Supply Code Categories that would most commonly be used for the bulk materials, products used for maintenance, and equipment containing HFCs:

Respondents: 3,172.

Responses per respondent: 1.

Total annual responses: 3,172.

Hours per response: 8.

Total Burden Hours: 25,376.

Public comments are particularly invited on: Whether this collection of information is necessary for the proper performance of functions of the FAR, and will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control Number “9000-0191, High Global Warming Potential Hydrofluorocarbons,” in all correspondence.

William Clark,
Director, Office of Governmentwide Acquisition Policy, Office of Acquisition Policy, Office of Governmentwide Policy.

[FR Doc. 2015-32674 Filed 12-28-15; 8:45 am]

BILLING CODE 6820-EP-P